FEDERAL COMMUNICATIONS COMMISSION

Notice of Public Information Collection(s) Approved by the Office of Management and Budget

August 13, 2010.

SUMMARY: The Federal Communications Commission has received Office of Management and Budget (OMB) approval for the following public information collection(s) pursuant to the Paperwork Reduction Act of 1995 (44 U.S.C. 3501-3520). An agency may not conduct or sponsor a collection of information unless it displays a currently valid OMB control number, and no person is required to respond to a collection of information unless it displays a currently valid OMB control number. Comments concerning the accuracy of the burden estimate(s) and any suggestions for reducing the burden should be directed to the person listed in the “FOR FURTHER INFORMATION CONTACT” section below.

FOR FURTHER INFORMATION CONTACT: For additional information contact Melissa Kirkel, melissa.kirkel@fcc.gov, (202) 418-7958.

SUPPLEMENTARY INFORMATION: OMB Control Number: 3060-0742.

OMB Approval Date: 7/29/2010.

Expiration Date: 7/31/2013.

Title: Sections 52.21 through 52.36, Telephone Number Portability (47 CFR Part 52, Subpart C) and CC Docket No. 95-116.

Form Number: N/A.

Estimated Annual Burden: 3,616 respondents; 10,001,890 responses; 672,516 total annual hours; 4 minutes-410 hours per response.

Obligation to Respond: Required to obtain or retain benefits. Statutory authority for this information collection is contained in 47 U.S.C. sections 1, 2, 3, 251 and 332 of the Communications Act of 1934, as amended.

Nature and Extent of Confidentiality: The Commission is not requesting that respondents submit confidential information to the Commission. If the Commission requests respondents to submit information which the respondents believe is confidential, respondents may request confidential treatment under 47 CFR 0.459 of the Commission rules.

Needs and Uses: The Commission has revised this information collection (IC) by adding standardized local service request data fields. Section 251(b)(2) of the Telecommunications Act of 1996 requires LECs to “provide, to the extent technically feasible, number portability in accordance with requirements prescribed by the Commission.” Through the Local Number Portability (LNP) process, consumers have the ability to retain their phone number when switching telecommunications service providers, enabling them to choose a provider that best suits their needs and enhancing competition. In the Porting Internal Order and Further Notice, the Commission mandated a one-business day porting interval for simple wireline-to-wireline and intermodal port requests. The information collected in the standard local service request data fields is necessary to complete simple wireline-to-wireline and intermodal ports within the one business day porting interval mandated by the Commission and will be used to comply with section 251 of the Telecommunications Act of 1996.

Part 52, Subpart C implements the statutory requirements that LECs and Commercial Mobile Radio Service (CMRS) providers provide LNP as set forth in Sections 1, 2, 4, 251, and 332 of the Telecommunications Act of 1996. The Commission requires the following information to be collected from various entities: (1) Requests for long-term number portability; (2) petitions to extend implementation deadline; (3) tariffs and cost support materials; and (4) recordkeeping requirement.

(1) Long-term number portability must be provided by LECs and CMRS providers in switches for which another carrier has made a specific request for number portability, according to the Commission's deployment schedule. Wireline carriers began providing LNP in 1998. In a Memorandum Opinion and Order, FCC 02-215, CC Docket No. 95-116, the Commission extended the deadline for CMRS providers to offer LNP. CMRS providers began offering LNP in 2003.

(2) Carriers that are unable to meet the deadlines for implementing a long-term number portability solution are required to file with the Commission at least 60 days in advance of the deadline a petition to extend the time by which implementation in its network will be completed.

(3) Incumbent LECs may recover their carrier-specific costs directly related to providing long-term number portability by establishing in tariffs filed with the Commission certain number portability charges. See 47 CFR 52.33. Incumbent LECs are required to include many details in their cost support that are unique to the number portability proceeding pursuant to the Cost Classification Order. For instance, incumbent LECs must demonstrate that any incremental overhead costs claimed in their cost support are actually new cost incremental to and resulting from the provision of long-term number portability. See the Cost Classification Order.

(4) Incumbent LECs are required to maintain records that detail both the nature and specific amount of these carrier-specific costs that are directly related to number portability, and those carrier-specific costs that are not directly related to number portability. The information collected and required by the Commission will be used to comply with Section 251 of the Telecommunications Act of 1996.

Federal Communications Commission.
Marlene H. Dortch,
Secretary.

[FR Doc. 2010-20736 Filed 8-19-10; 8:45 am]

BILLING CODE 6712-01-P